DEPARTMENT OF TRANSPORTATION

Federal Aviation Administration

14 CFR Part 71

[Docket No. FAA-2011-0369; Airspace Docket No. 11-AEA-07]

Proposed Establishment of Class E Airspace; Wilkes-Barre, PA

AGENCY: Federal Aviation Administration (FAA), DOT.

ACTION: Notice of proposed rulemaking (NPRM), withdrawal.

SUMMARY: A notice of proposed rulemaking published in the Federal Register on July 1, 2011, establishing Class E airspace at Wilkes-Barre/Wyoming Valley Airport, Wilkes-Barre, PA, is being withdrawn. Controlled airspace already exists for area airports under this city designator. A new proposal amending the existing airspace will be submitted under a separate rulemaking.

DATES: Effective 0901 UTC March 2, 2012, the proposed rule published July 1, 2011 (76 FR 38585), is withdrawn.

FOR FURTHER INFORMATION CONTACT: Richard Horrocks, Operations Support Group, Eastern Service Center, Federal Aviation Administration, P.O. Box 20636, Atlanta, Georgia 30320; telephone (404) 305-5588.

SUPPLEMENTARY INFORMATION:

History

On July 1, 2011, a NPRM was published in the Federal Register establishing Class E airspace at Wilkes-Barre, PA, to accommodate new standard instrument approach procedures for Wilkes-Barre/Wyoming Valley Airport, Wilkes-Barre, PA (76 FR 38585). Subsequent to publication the FAA found that Class E airspace extending upward from 700 feet above the surface currently exists for Wilkes-Barre, PA, with the primary airport being Wilkes-Barre/Scranton International Airport. To avoid confusion this proposed rule is being withdrawn and another rulemaking will be forthcoming adding Wilkes-Barre/Wyoming Valley Airport to the current city designator, Wilkes-Barre, PA.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment

Lists of Subjects in 14 CFR Part 71

Airspace, Incorporation by reference, Navigation (air).

The Withdrawal

Accordingly, pursuant to the authority delegated to me, the Notice of Proposed Rulemaking, as published in the Federal Register of July, 1, 2011 (76 FR 38585) (FR Doc. 2011-16664), is hereby withdrawn.

Authority: 49 U.S.C. 106(g); 40103, 40113, 40120; E.O. 10854, 24 FR 9565, 3 CFR, 1959-1963 Comp., p. 389.

Issued in College Park, Georgia, on February 15, 2012.
Mark D. Ward,
Manager, Operations Support Group, Eastern Service Center, Air Traffic Organization.

[FR Doc. 2012-5132 Filed 3-1-12; 8:45 am]

BILLING CODE 4910-13-P